DEPARTMENT OF COMMERCE

National Oceanic and Atmospheric Administration

50 CFR Part 622

[I.D. 082703B]

Fisheries of the Caribbean, Gulf of Mexico, and South Atlantic; Snapper-Grouper Fishery off the Southern Atlantic States; Amendment 13; Amendment 13A

AGENCY: National Marine Fisheries Service (NMFS), National Oceanic and Atmospheric Administration (NOAA), Commerce.

ACTION: Notification announcing preparation of an environmental assessment (EA).

SUMMARY: NMFS and the South Atlantic Fishery Management Council (South Atlantic Council) intend to prepare a draft EA, in accordance with the National Environmental Policy Act (NEPA), for extension of the prohibition on fishing for and possessing snapper grouper species within the Oculina Experimental Closed Area.

FOR FURTHER INFORMATION CONTACT: Julie Weeder, telephone: 727-570-5305, fax: 727-570-5583, e-mail: Julie.Weeder@noaa.gov.

SUPPLEMENTARY INFORMATION: The proposed action to continue fishing restrictions in the Oculina Experimental Closed Area was originally combined with multiple other actions the South Atlantic Council was evaluating in Amendment 13 to the Snapper-Grouper FMP. A Notice of Intent (NOI) to prepare a supplemental environmental impact statement (supplemental EIS) to support that amendment was published in the Federal Register on January 31, 2002 (67 FR 4696).

In March 2003, the South Atlantic Council voted to separate the actions in Amendment 13 into two amendments. The proposed action to extend the prohibition on fishing for and possessing snapper grouper species within the Oculina Experimental Closed Area is being evaluated in Amendment 13A to the Snapper-Grouper FMP. Most of the other actions in Amendment 13 are now being evaluated in Amendment 13B, for which a supplemental EIS is being prepared. The purpose of separating the actions was to ensure that the Council had the information it needed to make a decision on whether to extend the prohibition on fishing for and possessing snapper grouper species within the Oculina Experimental Closed Area before the regulations implementing that prohibition expire as scheduled in June 2004.

This document is intended to inform the public of the change from preparation of a supplemental EIS for Amendment 13A to preparation of an EA. The purpose of an EA is to determine whether significant environmental impacts would result from a proposed action. If the action is determined not to be significant, the EA and resulting Finding of No Significant Impact will be the final environmental documents required by NEPA. If the EA indicates that significant environmental impacts may be reasonably expected to occur, then the agency will prepare a supplemental EIS and publish an NOI in the Federal Register. The preliminary environmental review of the proposed action in this amendment indicated that it would not likely have a significant impact on the quality of the human environment. Consequently, the South Atlantic Council and NMFS are jointly preparing an EA to decide whether to prepare a supplemental EIS.

The Oculina Bank is a 90-mile (145-km) strip of coral reefs and limestone outcroppings located in the exclusive economic zone (EEZ) near the continental shelf edge, approximately 60 nautical miles (nm) off central eastern Florida. Its name derives from the presence of banks, thickets, and rubble zones of the delicate, slow-growing Oculina varicosa (ivory tree coral). The massive thickets formed by this coral support dense and diverse invertebrate and finfish communities.

In recognition of the biological significance of this coral, in 1984 the Council designated a 92-square nm portion of the Oculina Bank as the “Oculina Habitat Area of Particular Concern (Oculina HAPC)”. This designation categorized it as an area of special biological significance worthy of stricter regulatory and enforcement activity. The Council prohibited the use of bottom trawls, bottom longlines, dredges, fish traps, and fish pots within the Oculina HAPC to mitigate the threat of fishing gear to Oculina coral. These actions were implemented through the FMP for Coral and Coral Reefs of the Gulf of Mexico and the South Atlantic, which was prepared jointly by the Gulf of Mexico and South Atlantic Councils.

In Amendment 6 to the Snapper-Grouper FMP, which was implemented in 1994, the South Atlantic Council prohibited fishing for and retaining snapper grouper species within the Oculina HAPC, and prohibited anchoring by vessels fishing for snapper grouper species. The area to which these prohibitions applied became known as the Oculina Experimental Closed Area (OECA). The primary purpose of the OECA is to “enhance stock stability and increase recruitment by providing an area where deep-water species can grow and reproduce without being subjected to fishing mortality”(SAFMC 1993).

In January of 1996, regulations implementing Amendment 3 to the FMP for Coral, Coral Reefs and Live/Hard Bottom Habitats of the South Atlantic Region (Coral FMP) became effective. These regulations prohibited all fishing vessels from anchoring within the Oculina HAPC. Also in 1996, in Amendment 1 to the FMP for the Shrimp Fishery of the South Atlantic Region, the Council prohibited trawling for rock shrimp east of 80°W. long., between 27°30′ N. and 28°30′ N. lat., in depths less than 100 fathoms (183 m). These restrictions were adopted to minimize the impacts of the rock shrimp fishery on essential fish habitat including the fragile coral species existing in the Oculina bank. The area to which the prohibition applied became known as the rock shrimp closed area.

In 1998, the Council expanded the Oculina HAPC to include the rock shrimp closed area. This action was accomplished through Amendment 4 to the Coral FMP. Within the expanded Oculina HAPC, fishing with a bottom longline, bottom trawl, dredge, fish pot, or fish trap is prohibited, as is anchoring by a fishing vessel. The prohibition on fishing for and possessing snapper grouper species remains in effect only within the smaller OECA, which is scheduled to expire in June 2004 and is the subject of Amendment 13A to the Snapper Grouper FMP.

The renewal of fishing restrictions in the OECA is intended to provide continued protection of snapper grouper populations and associated Oculina coral. This action is needed to provide a hedge against the high degree of scientific uncertainty associated with the status of these species and to reduce the possibility that these populations may fall below sustainable levels.

Authority: 16 U.S.C. 1801 et seq.

Dated: September 8, 2003.
Bruce C. Morehead,
Acting Director, Office of Sustainable Fisheries, National Marine Fisheries Service.

[FR Doc. 03-23310 Filed 9-11-03; 8:45 am]

BILLING CODE 3510-22-S